NATIONAL SCIENCE FOUNDATION

Sunshine Act Meetings

The National Science Board's Committee on Oversight (CO) hereby gives notice of the scheduling of a videoconference meeting for the transaction of National Science Board business pursuant to the National Science Foundation Act and the Government in the Sunshine Act.

TIME AND DATE: Thursday, December 14, 2023, from 12:30-1:30 p.m. Eastern.

PLACE: This meeting will be held in person and by videoconference through the National Science Foundation headquarters at 2415 Eisenhower Ave., Alexandria, VA 22314.

STATUS: One portion open and one portion closed.

MATTERS TO BE CONSIDERED:

Closed: 12:30-1:05 p.m. Matters to be considered—Chairman's opening remarks regarding the agenda; and presentation and discussion of a pilot program to include experts in Broader Impacts on NSF Committees of Visitors.

Open: 1:05-1:30 p.m. Matters to be considered—Chairman's opening remarks; discussion regarding a presentation by the Inspector General and Assistant Inspector General for Audits regarding the FY 2024 Annual Audit Plan; and Chief Financial Officer update.

CONTACT PERSON FOR MORE INFORMATION: Point of contact for this meeting is: (Chris Blair, cblair@nsf.gov), 703/292-7000. Members of the public can observe the public portion of this meeting through a YouTube livestream. The YouTube link will be available from the NSB web page.

Ann E. Bushmiller,
Senior Legal Counsel to the National Science Board.

[FR Doc. 2023-27279 Filed 12-11-23; 11:15 am]

BILLING CODE 7555-01-P